DEPARTMENT OF HEALTH AND HUMAN SERVICES

Centers for Disease Control and Prevention

Notice of Award of a Single-Source Cooperative Agreement To Fund Ministry of Women, Families and Children (MFFE), Cote D'Ivoire

AGENCY: Centers for Disease Control and Prevention (CDC), Department of Health and Human Services (HHS).

ACTION: Notice.

SUMMARY: The Centers for Disease Control and Prevention (CDC), located within the Department of Health and Human Services (HHS), announces the award of approximately $3,000,000 for Year 1 of funding to the Ministry of Women, Families and Children (MFFE). The award will continue to build a sustainable national response to address the needs of Orphans and Vulnerable Children (OVC) and their families and others highly affected by HIV/AIDS. Annual award amounts for years 2-5 will be set at continuation.

DATES: The period for this award will be September 30, 2022 through September 29, 2027.

FOR FURTHER INFORMATION CONTACT: Titania Techeira, Center for Global Health, Centers for Disease Control and Prevention, CDC Côte d'Ivoire, U.S. Embassy B.P. 730 Abidjan Cidex 03, Telephone: 800-232-6348, Email: iux2@cdc.gov.

SUPPLEMENTARY INFORMATION: The single-source award will build on experience to improve the Ministry's capacity to achieve an AIDS-free generation by increasing adherence and retention in care and viral load suppression through child and family protection services. This award will also help refine the restructured social center model and strengthen social systems through increased financial and human resource allocation and evidence-driven planning of the HIV program.

On October 9, 2003, The National Program of Care and Support for Orphans and Vulnerable Children (PNOEV) was created. In December of that same year, it was officially decreed as an acting body of the MFFE; making the MFFE the only government institution that can do the following: (1) Reinforce collaboration between community-based organizations (CBOs) and health facilities; (2) Work closely with the Institute National de Formation Social (INFS) to improve financial, administrative, and management modules; (3) Work with the Ministry of National Education (MEN) to address gender-based violence (GBV) against adolescents and children; and (4) Maintain interventions in the social sector for control of the HIV epidemic clearly making this the sole and uniquely strong organization that can move this role forward, attain sustainability, and transfer back this role to the government.

Summary of the Award

Recipient: Ministry of Women, Families and Children (MFFE).

Purpose of the Award: The purpose of this award is to continue to build a sustainable national response to address the needs of OVC and their families and others highly affected by HIV/AIDS. This NOFO will support services to mitigate these effects in order to improve health and well-being outcomes of adults and children. In addition, the MFFE will work closely with the MEN to address adolescent girls' vulnerability by providing school-based HIV and prevention gender and education interventions.

Amount of Award: The approximate year 1 funding amount will be $3,000,000 in Federal Fiscal Year (FFY) 2022 funds, subject to the availability of funds. Funding award amounts for years 2-5 will be set at continuation.

Authority: This program is authorized under Public Law 108-25 (the United States Leadership Against HIV AIDS, Tuberculosis and Malaria Act of 2003).

Period of Performance: September 30, 2022 through September 29, 2027.

Dated: March 2, 2022.
Terrance Perry,
Chief Grants Management Officer, Centers for Disease Control and Prevention.

[FR Doc. 2022-04817 Filed 3-7-22; 8:45 am]

BILLING CODE 4163-18-P